DEPARTMENT OF COMMERCE

National Oceanic and Atmospheric Administration

[RTID 0648-XB314]

Mid-Atlantic Fishery Management Council (MAFMC); Public Meeting

AGENCY: National Marine Fisheries Service (NMFS), National Oceanic and Atmospheric Administration (NOAA), Commerce.

ACTION: Notice; public meeting.

SUMMARY: The Science and Statistical Committee (SSC) of the Mid-Atlantic Fishery Management Council (Council) will hold a meeting.

DATES: The meeting will be held on Tuesday, September 7, 2021, starting at 9 a.m. and continue through 1 p.m. on Wednesday, September 8, 2021. See SUPPLEMENTARY INFORMATION for agenda details.

ADDRESSES: The meeting will take place over webinar using the Webex platform with a telephone-only connection option. Details on how to connect to the webinar by computer and by telephone will be available at: http://www.mafmc.org/ssc.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make multi-year acceptable biological catch (ABC) recommendations for Atlantic Mackerel based on the results of the recently completed management track stock assessment. The SSC will recommend 2022-23 ABC specifications for Atlantic Mackerel rebuilding alternatives identified by the Council. The SSC will also review the most recent survey and fishery data and the previously recommended 2022 ABC for Spiny Dogfish and Chub Mackerel. The SSC will discuss recent research that evaluates the monitoring and science implications and fishery interactions associated with offshore wind development. The SSC will review and provide comment on the following documents: A draft exempted fishing permit (EFP) application for thread herring, and the NMFS National Standard 1 Technical Guidance document on data-limited annual catch limits (ACLs). The SSC will also receive updates from the SSC economic work group, the SSC ecosystem work group, and future stock assessment schedules. In addition, the SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: August 9, 2021.
Tracey L. Thompson,
Acting Deputy Director, Office of Sustainable Fisheries, National Marine Fisheries Service.

[FR Doc. 2021-17274 Filed 8-11-21; 8:45 am]

BILLING CODE 3510-22-P